FEDERAL RESERVE SYSTEM

Agency Information Collection Activities: Announcement of Board Approval Under Delegated Authority and Submission to OMB

SUMMARY:

Background

Notice is hereby given of the final approval of proposed information collection by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Michelle Long—Division of Research and Statistics, Board of Governors of the Federal Reserve System, Washington, DC 20551 (202-452-3829) .

OMB Desk Officer—Mark Menchik—Office of Information and Regulatory Affairs, Office of Management and Budget, New Executive Office Building, Room 10235, Washington, DC 20503, or email to mmenchik@omb.eop.gov.

Final approval under OMB delegated authority of the extension for three years, with revision, of the following report:

Report title: Suspicious Activity Report by Depository Institutions.

Agency form number: FR 2230.

OMB Control number: 7100-0212.

Frequency: On occasion.

Reporters: Depository institutions, bank holding companies, nonbank subsidiaries of bank holding companies, Edge and agreement corporations, and U.S. branches and agencies of foreign banks.

Annual reporting hours: 93,600 hours.

Estimated average hours per response: 1 hour.

Number of respondents: 7,000.

General description of report: This information collection is mandatory, pursuant to authority contained in the following statutes: 12 U.S.C. 248(a)(1), 324, 334, 625, 1844(c), 3105(c)(2), and 3106(a). The obligation to file a Suspicious Activity Report by Depository Institutions (SAR) is set forth in the Federal Reserve's rules, and is mandatory (12 CFR 208.62(c) (state member banks), 12 CFR 225.4(f) (entities subject to the Bank Holding Company Act), 12 CFR 211.5(k) (Edge and agreement corporations), and 12 CFR 211.24(f) (branches, agencies, and representative offices of foreign banks)).

Section 5318(g)(2)(a)(ii) of Title 31 prohibits an officer or employee of the federal government from disclosing the existence of a SAR to anyone involved in the transaction, and section 5319 of Title 31 provides that all reports, including SARs filed thereunder, are exempt from disclosure under Freedom of Information Act (FOIA). The information collected on a SAR is covered by exemptions three and seven of the FOIA (5 U.S.C. 552(b)(3)(7)) and exemption two of the Privacy Act (5 U.S.C. 552a(k)(2)).

Abstract: Since 1996, the federal banking agencies (the Federal Reserve Board, the Office of the Comptroller of the Currency, the Office of Thrift Supervision, the Federal Deposit Insurance Corporation, and the National Credit Union Administration) and the Department of the Treasury's Financial Crimes Enforcement Network (FinCEN) (collectively, the agencies) have required certain types of financial institutions to report known or suspected violations of law and suspicious transactions. To fulfill these requirements, supervised banking organizations file SARs. Law enforcement agencies use the information submitted on the reporting form to initiate investigations and the Federal Reserve uses the information in the examination and oversight of supervised institutions.

Current Actions: On February 17, 2006, the federal banking agencies and FinCEN published a joint Federal Register notice (71 FR 8640) seeking comment on proposed revisions to the existing SAR. The agencies proposed several revisions to the reporting form and instructions in order to enhance clarity, allow for joint filing of SARs, and to improve the usefulness of the SAR to law enforcement. The agencies collectively received twenty-three comment letters. The commenters raised several minor issues and provided editorial comments about certain data items. The other agencies published a separate Federal Register notice on June 19, 2006 (71 FR 35325) and will each separately submit their SAR information collection to OMB.

Several commenters suggested that the agencies provide a test site for filing electronic submissions. Due to time constraints, FinCEN is unable to provide a test site; however, respondents will have a six-month transition period before being required to use the revised reporting form for submitting data.

Two commenters stated that the overall burden estimate appeared to be low even though it was increased from thirty minutes to one hour. One commenter specifically noted that the burden estimate did not account for regulatory compliance, fraud detection, and mitigation. While important, these regulatory requirements are outside the scope of the burden calculation required by the Paperwork Reduction Act. The agencies, however, continue to welcome comments from the industry and would reevaluate and make adjustments to the burden, as appropriate.

Several commenters expressed concern over the new format of the reporting form and whether it would cause important information to be omitted by respondents. The agencies rearranged data items on the reporting form, per law enforcement request, to improve the usefulness of the data. Also, additional clarifications were included in the instructions to provide respondents with better guidance on how to submit the revised data.

Board of Governors of the Federal Reserve System, June 28, 2006.
Jennifer J. Johnson,
Secretary of the Board.

[FR Doc. E6-10410 Filed 7-3-06; 8:45 am]

BILLING CODE 6210-01-P